DEPARTMENT OF TRANSPORTATION

Maritime Administration

[Docket No. MARAD 2003 16113]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before November 12, 2003.

FOR FURTHER INFORMATION CONTACT: Keith Lesnick, Maritime Administration, (MAR-830), 400 Seventh St., SW., Washington, DC 20590. Telephone: 202-366-1624, FAX: 202-366-6988; or E-MAIL: keith.lesnick@marad.dot.gov. Copies of this collection can also be obtained from that office.

SUPPLEMENTARY INFORMATION: Title of Collection: Port Facility Conveyance Information.

Type of Request: Extension of currently approved information collection.

OMB Control Number: 2133-0524.

Form Numbers: None.

Expiration Date of Approval: Three years from date of approval by the Office of Management and Budget.

Summary of Collection of Information: Public Law 103-160, which is included in 40 U.S.C. 554 authorizes the Department of Transportation to convey to public entities surplus Federal property needed for the development or operation of a port facility. The information collection will allow MARAD to approve the conveyance of property and administer the port facility conveyance program.

Need and Use of the Information: The information collection is necessary for MARAD to determine whether (1) the community is committed to the redevelopment plan; (2) the plan is in the best interests of the public, and (3) the property is being used in accordance with the terms of the conveyance and applicable statutes and regulations.

Description of Respondents: Eligible state and local public entities.

Annual Responses: Six respondents.

Annual Burden: 768 burden hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

Dated: September 8, 2003.
By Order of the Maritime Administrator.
Joel C. Richard,
Secretary, Maritime Administration.

[FR Doc. 03-23281 Filed 9-11-03; 8:45 am]

BILLING CODE 4910-81-U